ENVIRONMENTAL PROTECTION AGENCY

40 CFR Parts 52 and 81

[WA-72-7147b; FRL-6938-4]

Approval and Promulgation of Implementation Plans and Designation of Areas for Air Quality Planning Purposes; Washington

AGENCY: Environmental Protection Agency (EPA).

ACTION: Proposed rule.

SUMMARY: The Environmental Protection Agency (EPA) proposes to approve the Kent, Seattle, and Tacoma, Washington PM-10 area maintenance plan and redesignation request from nonattainment to attainment as revisions to the Washington State Implementation Plan (SIP). PM-10 air pollution is suspended particulate matter with a diameter less than or equal to a nominal ten micrometers.

In the Final Rules section of this Federal Register, the EPA is approving the Washington SIP submittal as a direct final rule without prior proposal because the Agency views this as a noncontroversial submittal amendment and anticipates no adverse comments. A detailed rationale for the approval is set forth in the direct final rule. If no adverse comments are received in response to this action, no further activity is contemplated.

If the EPA receives adverse comments, the direct final rule will be withdrawn and all public comments received will be addressed in a subsequent final rule based on this proposed rule. The EPA will not institute a second comment period. Any parties interested in commenting on this action should do so at this time.

DATES: Written comments must be received by April 12, 2001.

ADDRESSES: Written comments should be addressed to Debra Suzuki, Environmental Protection Specialist (OAQ-107), Office of Air Quality, at the EPA Regional Office listed below.

Copies of the State's request and other information supporting this action are available for inspection during normal business hours at the following locations: EPA, Office of Air Quality (OAQ-107), 1200 Sixth Avenue, Seattle, Washington 98101, and State of Washington Department of Ecology, 300 Desmond Drive, PO Box 47600, Olympia, Washington 98504-7600.

FOR FURTHER INFORMATION CONTACT: Steven K. Body, EPA, Office of Air Quality (OAQ-107), Seattle, Washington, (206) 553-0782.

SUPPLEMENTARY INFORMATION: For additional information, see the Direct Final rule which is located in the Rules section of this Federal Register.

Dated: December 11, 2000.
Ronald A. Kreizenbeck,
Acting Regional Administrator, Region 10.

[FR Doc. 01-6083 Filed 3-12-01; 8:45 am]

BILLING CODE 6560-50-P